SECURITIES AND EXCHANGE COMMISSION

[File No. 500-1]

In the Matter of Preston Royalty Corp.; Order of Suspension of Trading

September 2, 2016.

It appears to the Securities and Exchange Commission that the public interest and the protection of investors require a suspension of trading in the securities of Preston Corp. (a/k/a Preston Royalty Corp.) (CIK No. 0001594219) because of questions regarding the adequacy and accuracy of available information about Preston Corp. in light of a false statement about the permitting status of a mine in the company's August 10, 2016 press release and questions regarding the adequacy and accuracy of clarifications Preston Corp. provided in a September 1, 2016, press release about the mining project. Preston Corp. is a Nevada corporation whose principal place of business is located in Austin, Texas. Its stock is quoted on OTC Link (previously “Pink Sheets”) operated by OTC Markets Group, Inc. under the ticker symbol PSNP.

The Commission is of the opinion that the public interest and the protection of investors require a suspension of trading in the securities of the above-listed company.

Therefore, it is ordered, pursuant to Section 12(k) of the Securities Exchange Act of 1934, that trading in the securities of the above-listed company is suspended for the period from 9:30 a.m. EDT on September 2, 2016, through 11:59 p.m. EDT on September 16, 2016.

By the Commission.
Brent J. Fields,
Secretary.

[FR Doc. 2016-21584 Filed 9-2-16; 4:15 pm]

BILLING CODE 8011-01-P